DEPARTMENT OF TRANSPORTATION

Federal Highway Administration

Notice of Final Federal Agency Action on Proposed Transportation Project in Illinois

AGENCY: Federal Highway Administration (FHWA), DOT.

ACTION: Notice of Limitation on Claims for Judicial Review of Actions by FHWA.

SUMMARY: This notice announces actions taken by the FHWA that are final within the meaning of 23 U.S.C. 139(l)(1). The action relates to a the proposed construction of a new highway between Huntley Road and Illinois Route 62 and a new bridge crossing over the Fox River in Kane County. The Federal action, taken as a result of an Environmental Assessment and Finding of No Significant Impact under the National Environmental Policy Act, 42 U.S.C. 4321-4351 (NEPA) and 23 CFR part 771 determined certain issues relating to the proposed project. This decision will be used by Federal agencies in subsequent proceedings, including decisions whether to grant licenses, permits, and approvals for the proposed highway project. The decision also may be relied upon by State and local agencies in proceedings on the proposed project.

DATES: By this notice, the FHWA is advising the public of the final agency action subject to 23 U.S.C. 139(l)(1). A claim seeking judicial review of the Federal agency action of the proposed highway project will be barred unless the claim is filed on or before June 12, 2017. If the Federal law that authorizes judicial review of a claim provides a time period of less than 150 days for filing such claim, then that shorter time period still applies.

FOR FURTHER INFORMATION CONTACT: For FHWA Ms. Catherine A. Batey, Division Administrator, 3250 Executive Park Drive, Springfield, Illinois 62703; telephone: (217) 492-4600; email address: Catherine.Batey@dot.gov. The FHWA Illinois Division Office's normal business hours are 7:30 a.m. to 4:15 p.m. (Central Standard Time). For the Illinois Department of Transportation: Mr. Jose Rios, Engineer of Program Development, 201 West Center Court, Schaumburg, Illinois 60196; telephone: (847) 705-4000. The Illinois Department of Transportation Region One's normal business hours are 8:00 a.m. to 4:30 p.m. (Central Standard Time). For the Kane County Division of Transportation, Mr. Steve Coffinbarger, Assistant Director, 41W011 Burlington Road, St. Charles, IL 60175; telephone: (630) 584-5265. The Kane County Division of Transportation's normal business hours are 8:00 a.m. to 4:30 p.m. (Central Standard Time).

SUPPLEMENTARY INFORMATION: Notice is hereby given that the FHWA has issued a Finding of No Significant Impact (FONSI) in connection with the proposed highway project in Illinois: the proposed construction of a new highway between Huntley Road and Illinois Route 62 and a new bridge crossing over the Fox River in Kane County.

The actions by the Federal agencies, and the laws under which such actions were taken, are described in the EA approved July 26, 2016, the FONSI approved November 22, 2016, and in other documents in the FHWA project records. The EA, FONSI, and other documents in the FHWA project file are available by contacting the FHWA, the Illinois Department of Transportation, or the Kane County Division of Transportation at the addresses provided above. The EA and FONSI also are available online at http://www.co.kane.il.us/dot/foxBridges/longmeadowPkwy.aspx. Interested parties may consult the EA, the Errata, and the FONSI for further information on each of the decisions described above.

This notice applies to all Federal agency decisions as of the issuance date of this notice and all laws under which such actions were taken, including, but not limited to:

1. General: National Environmental Policy Act (NEPA) [42 U.S.C. 4321-4351] Federal-Aid Highway Act [23 U.S.C. 109 and 23 U.S.C. 128].

2. Air: Clean Air Act [42 U.S.C. 7401-7671(q)].

3. Land: Section 4(f) of the Department of Transportation Act of 1966 [49 U.S.C. 303 and 23 U.S.C. 138].

4. Wildlife: Endangered Species Act [16 U.S.C. 1531-1544 and Section 1536]; Migratory Bird Treaty Act [16 U.S.C. 703-712].

5. Historic and Cultural Resources: Section 106 of the National Historic Preservation Act of 1966, as amended [16 U.S.C. 470(f) et seq.].

6. Water Resources: Safe Drinking Water Act [42 U.S.C. 300(f)-300(j)(6)]; Wild and Scenic Rivers Act [16 U.S.C. 1271-1287].

7. Executive Orders: E.O. 11990 Protection of Wetlands; E.O. 11988 Floodplain Management; E.O. 12898 Federal Actions to Address Environmental Justice in Minority Populations and Low Income Populations.

(Catalog of Federal Domestic Assistance Program Number 20.205, Highway Research, Planning and Construction. The regulations implementing Executive Order 12372 regarding intergovernmental consultation on Federal programs and activities apply to this program)

Authority: 23 U.S.C. 139(l)(1)

Issued on: January 5, 2017.
Glenn D. Fulkerson,
Assistant Division Administrator, Springfield, Illinois.

[FR Doc. 2017-00551 Filed 1-12-17; 8:45 am]

BILLING CODE 4910-22-P